DEPARTMENT OF HEALTH AND HUMAN SERVICES

National Institutes of Health

National Center for Advancing Translational Sciences; Notice of Workshop

Notice is hereby given of a workshop convened by the National Center for Advancing Translational Sciences Cures Acceleration Network Review Board.

Purpose

The National Center for Advancing Translational Sciences is hosting the Cures Acceleration Network Review Board (CAN RB) Workshop: The CAN RB advises and provides recommendations to the NCATS Director with respect to significant barriers to successful translation of basic science into clinical application. In support of this mandate, the CAN RB will co-host this public workshop to discuss challenges around finding new uses for drugs that are already on the market but lack commercial and regulatory incentives for research and development.

The Workshop is being co-sponsored by the NCATS Cures Acceleration Network Review Board, NCATS Drug Development Partnership Programs, Food and Drug Administration, and Reagan-Udall Foundation for the FDA.

Name of Committee: National Center for Advancing Translational Sciences Cures Acceleration Network Review Board.

Type of Meeting: Repurposing Off-Patent Drugs: Research & Regulatory Challenges.

Date: December 5-6, 2019.

Time: 7:30 a.m. to 5:00 p.m., Eastern Standard Time (EST).

Agenda: The Workshop will assess challenges around finding new uses for drugs that are already on the market but lack commercial and regulatory incentives for research and development. On December 5, we will map out the challenges to repurposing off-patent drugs. On December 6, we will host interactive work sessions focused on capturing possible solutions.

Place: Hilton Washington DC/Rockville Hotel & Executive Meeting Center, 1750 Rockville Pike, Rockville, MD 20852.

Cost: The meeting is free and open to the public.

Registration: Registration is required. Using the link below, attendees can register by December 2, 2019, 5:00 p.m. EST. Early registration is recommended due to limited seating. https://reaganudall.salsalabs.org/repurposingoffpatentdrugsworkshop/index.html.

Access: Twinbrook Metro Station (Red Line).

Contact Person: Bobbie Ann Mount, Ph.D., Program Officer, Drug Development Partnership Programs, Office of the Director, National Center for Advancing Translational Sciences, National Institutes of Health. Telephone: 301.435.0824, Email: NewTherapeuticUses@mail.nih.gov.

Disability Accommodations: Individuals whose full participation in the workshop will require special accommodations (e.g., sign language, or interpreting services, etc.) must submit a request to the Contact Person listed on the notice at least ten (10) business days prior to the meeting. Such requests should include a detailed description of the accommodation needed and a way to contact the requester if more information is needed to fill the request. Special requests should be made as early as possible. Last minute requests may be made but may not be possible to accommodate.

Security: Visitors will be asked to show one form of identification (for example, a government-issued photo ID, driver's license, or passport) and to state the purpose of their visit. Also, as a part of security procedures, attendees should be prepared to present a photo ID at the meeting registration desk during the check-in process. Pre-registration is recommended. Seating will be limited to the room capacity and seats will be on a first come, first serve basis, with expedited check-in for those who are pre-registered.

Meeting schedule subject to change.

For more information, visit: https://reaganudall.salsalabs.org/repurposingoffpatentdrugsworkshop/index.html.

Dated: October 21, 2019.
Melanie J. Pantoja,
Program Analyst, Office of Federal Advisory Committee Policy.

[FR Doc. 2019-23280 Filed 10-24-19; 8:45 am]

BILLING CODE 4140-01-P